FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than July 23, 2014.

A. Federal Reserve Bank of Atlanta (Chapelle Davis, Assistant Vice President) 1000 Peachtree Street, NE., Atlanta, Georgia 30309:

1. The Stock Holdings of Delaware, LLC, and Karnise Diann Schweizer, as the sole member, both of Fort Walton Beach, Florida; to acquire voting shares of Beach Community Bancshares, Inc., and thereby indirectly acquire voting shares of Beach Community Bank, both in Fort Walton Beach, Florida.

B. Federal Reserve Bank of Minneapolis (Jacquelyn K. Brunmeier, Assistant Vice President) 90 Hennepin Avenue, Minneapolis, Minnesota 55480-0291:

1. The Thomas H. Healey Family Trust dated June 27, 2013, Edina, Minnesota; John Healey, Edina, Minnesota, individually and as trustee for the Healey Trust; Ann Allen, Chanhassen, Minnesota, individually and as trustee committee member; and Peter Ramme, Edina, Minnesota, as trustee committee member; all to retain voting shares of Crown Bankshares, Inc., (also known as Crown BHC), and thereby indirectly retain voting shares of Crown Bank, both in Edina, Minnesota.

In connection with this application, Peter Dahl and Lisa Dahl, both of Edina, Minnesota; Thomas Healey, Jr., Burnsville, Minnesota; and Rachel Anderson, Bloomington, Minnesota, as part of the Healey family group acting in concert, will retain voting shares of Crown BHC, and thereby indirectly retain voting shares of Crown Bank, both in Edina, Minnesota.

2. Lois A. Bednar, Fargo, North Dakota, as trustee, to join a group acting in concert with Thomas Watson, as Trustee, of the Bank Forward Employee Stock Ownership Plan, Hannaford, North Dakota; to retain and acquire additional voting shares of Security State Bank Holding Company, Fargo, North Dakota, and thereby indirectly retain and acquire additional voting shares of Bank Forward, Hannaford, North Dakota.

Board of Governors of the Federal Reserve System, July 3, 2014.
Michael J. Lewandowski,
Associate Secretary of the Board.

[FR Doc. 2014-16006 Filed 7-8-14; 8:45 am]

BILLING CODE 6210-01-P